DEPARTMENT OF COMMERCE

National Oceanic and Atmospheric Administration

RIN 0648-XM36

Marine Mammals; File No. 1058-1733

AGENCY: National Marine Fisheries Service (NMFS), National Oceanic and Atmospheric Administration (NOAA), Commerce.

ACTION: Notice; receipt of application for amendment.

SUMMARY: Notice is hereby given that Mark Baumgartner, Ph.D., MS #33, Woods Hole Oceanographic Institute, Woods Hole, Massachusetts, 02543, has requested an modification to scientific research Permit No. 1058-1733.

DATES: Written, telefaxed, or e-mail comments must be received on or before January 23, 2009.

ADDRESSES: The amendment request and related documents are available for review by selecting “Records Open for Public Comment” from the Features box on the Applications and Permits for Protected Species (APPS) home page, https://apps.nmfs.noaa.gov/index.cfm, and then selecting File No. 1058-1733 from the list of available applications. These documents also are available for review upon written request or by appointment in the following offices:

Permits, Conservation and Education Division, Office of Protected Resources, NMFS, 1315 East-West Highway, Room 13705, Silver Spring, MD 20910; phone (301)713-2289; fax (301)427-2521 and

Northeast Region, NMFS, 55 Great Republic Drive, Gloucester, MA 01930; phone (978)281-9300; fax (978)281-9333.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1058-1733.

FOR FURTHER INFORMATION CONTACT: Amy Hapeman or Kristy Beard, (301)713-2289.

SUPPLEMENTARY INFORMATION: The subject amendment to Permit No. 1058-1733 is requested under the authority of the Marine Mammal Protection Act of 1972, as amended (16 U.S.C. 1361 et seq.), the regulations governing the taking and importing of marine mammals (50 CFR part 216), the Endangered Species Act of 1973, as amended (16 U.S.C. 1531 et seq.) and the regulations governing the taking, importing, and exporting of endangered and threatened species (50 CFR parts 222-226).

Permit No. 1058-1733, issued on June 27, 2007 (72 FR 36429), authorizes the permit holder to examine baleen whale foraging and diving behaviors in the Southern Ocean as well as to determine the overlap of diving behaviors with the vertical structure of fixed fishing gear in the North Atlantic Ocean. In the Southern Ocean, researchers may closely approach humpback (Megaptera novaeangliae), blue (Balaenoptera musculus), fin (B. physalus), sei (B. borealis), and Antarctic minke (B. bonaerensis) whales during vessel surveys for photo-identification, behavioral observation, suction-cup tagging, tracking, and incidental harassment. In the North Atlantic, researchers may closely approach up to 324 of each species of humpback, fin, and sei whales annually during vessel surveys for photo-identification, behavioral observation, tracking, and incidental harassment. Of these animals, up to 108 of each species may be suction-cup tagged annually during surveys.

The permit holder requests an amendment to the permit to authorize the close vessel approach of up to 90 animals of each of the following species annually for suction-cup tagging: North Atlantic right (Eubalaena glacialis), North Pacific right (E. japonica), blue, and Eastern gray whales (Eschrichtius robustus) and up to 180 bowhead whales (Balaena mysticetus) in North Pacific, Arctic and/or North Atlantic waters. Dr. Baumgartner also requests to closely approach up to 45 animals each of the following species annually for satellite tagging using dermal attachments: North Pacific right, and Eastern gray whales and North Atlantic right, blue, humpback, fin, and sei whales and up to 180 bowhead whales in North Atlantic, North Pacific and/or Arctic waters. Dr. Baumgartner could incidentally harass up to 800 animals of each species during close vessel approaches annually. This research will provide a better understanding of large whale distribution and foraging ecology by gathering data on predator-prey relationships, diving behavior, day vs. night behavior, and acoustic behavior. The amendment would be valid until the permit expires on May 31, 2012.

Concurrent with the publication of this notice in the Federal Register, NMFS is forwarding copies of this application to the Marine Mammal Commission and its Committee of Scientific Advisors.

Dated: December 18, 2008.
P. Michael Payne,
Chief, Permits, Conservation and Education Division, Office of Protected Resources, National Marine Fisheries Service.

[FR Doc. E8-30713 Filed 12-23-08; 8:45 am]

BILLING CODE 3510-22-S